NATIONAL TRANSPORTATION SAFETY BOARD

Sunshine Act Meeting

Time and Place: 9 a.m., Tuesday, February 10, 2004.

Place: NTSB Conference Center, 429 L'Enfant Plaza SW., Washington, DC 20594.

Status: The one item is Open to the public.

Matter to be Considered: 7610 Highway Accident Report—School Bus Run-off-Bridge Accident, Omaha, Nebraska, October 13, 2001.

News Media Contact: Telephone: (202) 314-6100.

Individuals requesting specific accommodations should contact Ms. Carolyn Dargan at (202) 314-6305 by Friday, February 6, 2004.

FOR FURTHER INFORMATION CONTACT: Vicky D'Onofrio, (202) 314-6410.

Dated: January 30, 2004.
Vicky D'Onofrio,
Federal Register Liaison Officer.

[FR Doc. 04-2274 Filed 1-30-04; 12:46 pm]

BILLING CODE 7533-01-M